DEPARTMENT OF LABOR

Office of the Secretary

Agency Information Collection Activities; Submission for OMB Review; Comment Request; Sealing of Abandoned Areas

ACTION: Notice of availability; request for comments.

SUMMARY: The Department of Labor (DOL) is submitting this Mining Safety and Health Administration (MSHA)-sponsored information collection request (ICR) to the Office of Management and Budget (OMB) for review and approval in accordance with the Paperwork Reduction Act of 1995 (PRA). Public comments on the ICR are invited.

DATES: The OMB will consider all written comments that agency receives on or before December 7, 2020.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION: MSHA's standards for sealing abandoned areas in underground coal mines include requirements addressing the design and construction of new seals and the examination, maintenance, and repair of all seals. Section 75.335(b) sets forth procedures for the approval of seal design applications. Section 75.335(c) requires the submission and certification of information for seal installation. Section 75.336(a)(2) requires the mine operator to evaluate the atmosphere in the sealed area to determine whether sampling through the sampling pipes in seals provides appropriate sampling locations of the sealed area. The mine operator will make an evaluation for each area that has seals. Section 75.336(c) requires that when a sample is taken from the sealed atmosphere with seals of less than 120 psi and the sample indicates that the oxygen concentration is 10 percent or greater and methane is between 4.5 percent and 17 percent, the mine operator must immediately take an additional sample and then immediately notify the District Manager.

Section 75.336(e) requires a certified person to record each sampling result, including the location of the sampling points and the oxygen and methane concentrations. Also, any hazardous conditions found must be corrected and recorded in accordance with existing section 75.363. Section 75.337(c)(1)-(c)(5) requires a certified person to perform several tasks during seal construction and repair and certify that the tasks were done in accordance with the approved ventilation plan. In addition, a mine foreman or equivalent mine official must countersign the record. Section 75.337(d) requires a senior mine management official, such as a mine manager or superintendent, to certify that the construction, installation, and materials used were in accordance with the approved ventilation plan. Section 75.337(e) requires the mine operator to notify MSHA of certain activities concerning the construction of seals. Section 75.337(e)(1) requires the mine operator to notify the District Manager between 2 and 14 days prior to commencement of seal construction. Section 75.337(e)(2) requires the mine operator to notify the District Manager, in writing, within 5 days of completion of a set of seals and provide a copy of the certifications required in section 75.337(d). Section 75.337(e)(3) requires the mine operator to submit a copy of the quality control test results for seal material properties specified by section 75.335 within 30 days of completion of such tests. Section 75.337(g)(3) requires the mine operator to label sampling pipes to indicate the location of the sampling point when the mine operator installs more than one sampling pipe through a seal. Section 75.338(a) requires mine operators to certify that persons conducting sampling were trained in the use of appropriate sampling equipment, techniques, the location of sampling points, the frequency of sampling, the size and condition of sealed areas, and the use of continuous monitoring systems, if applicable, before they conduct sampling, and annually thereafter. Section 75.338(b) requires mine operators to certify that miners constructing or repairing seals, designated certified persons, and senior mine management officials were trained prior to constructing or repairing a seal and annually thereafter. For additional substantive information about this ICR, see the related notice published in the Federal Register on July 27, 2020 (85 FR 45241).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-MSHA.

Title of Collection: Sealing of Abandoned Areas.

OMB Control Number: 1219-0142.

Affected Public: Businesses or other for-profits institutions.

Total Estimated Number of Respondents: 177.

Total Estimated Number of Responses: 47,194.

Total Estimated Annual Time Burden: 4,870 hours.

Total Estimated Annual Other Costs Burden: $709,972.

(Authority: 44 U.S.C. 3507(a)(1)(D))

Dated: November 2, 2020.
Anthony May,
Management and Program Analyst.

[FR Doc. 2020-24656 Filed 11-5-20; 8:45 am]

BILLING CODE 4510-43-P